NUCLEAR REGULATORY COMMISSION

[Docket Nos. 50-266 and 50-301; NRC-2020-0277]

NextEra Energy Point Beach, LLC; Point Beach Nuclear Plant, Unit Nos. 1 and 2

AGENCY: Nuclear Regulatory Commission.

ACTION: Draft supplemental environmental impact statement; public comment meetings.

SUMMARY: On November 9, 2021, the U.S. Nuclear Regulatory Commission (NRC) published in the Federal Register a notice of availability of the draft plant-specific Supplement 23, Second Renewal, to the Generic Environmental Impact Statement (GEIS) for License Renewal of Nuclear Plants, NUREG-1437, regarding the proposed subsequent renewal of Renewed Facility Operating License Nos. DPR-24 and DPR-27 for an additional 20 years of operation for Point Beach Nuclear Plant, Unit Nos. 1 and 2 (Point Beach). The NRC is announcing two public comment webinars to receive comments on this document. The meetings will allow interested members of the public to submit their comments.

DATES: The NRC staff will hold the webinars on the draft Supplemental Environmental Impact Statement (SEIS) on December 8, 2021 from 1:00 p.m. to 3:00 p.m. Central Time (CT) and from 5:00 p.m. to 7:00 p.m. CT. The staff will present the preliminary findings of the draft SEIS and will receive public comments during transcribed public meetings. Members of the public are invited to continue to submit written comments by January 3, 2022. Comments received after this date will be considered if it is practical to do so, but the NRC is able to ensure consideration only for comments received on or before this date.

ADDRESSES: You may submit comments by any of the following methods; however, the NRC encourages electronic comment submission through the Federal Rulemaking website:

• Federal Rulemaking Website: Go to https://www.regulations.gov/ and search for Docket ID NRC-2020-0277. Address questions about Docket IDs to Stacy Schumann; telephone: 301-415-0624; email: Stacy.Schumann@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

• Email comments to: PointBeach-SLRSEIS@nrc.gov. For additional direction on obtaining information and submitting comments, see “Obtaining Information and Submitting Comments” in the SUPPLEMENTARY INFORMATION section of this document.

FOR FURTHER INFORMATION CONTACT: Phyllis M. Clark, Office of Nuclear Material Safety and Safeguards, U.S. Nuclear Regulatory Commission, Washington, DC 20555-0001; telephone: 301-415-6447; email: Phyllis.Clark@nrc.gov.

SUPPLEMENTARY INFORMATION:

I. Obtaining Information and Submitting Comments

A. Obtaining Information

Please refer to Docket ID NRC-2020-0277 when contacting the NRC about the availability of information regarding this document. You may obtain publicly available information related to this action by any of the following methods:

• Federal Rulemaking Website: Go to https://www.regulations.gov/ and search for Docket ID NRC-2020-0277.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. Draft plant-specific Supplement 23, Second Renewal, to the GEIS for License Renewal of Nuclear Plants, NUREG-1437, is available in ADAMS under Accession No. ML21306A226.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. (ET), Monday through Friday, except Federal holidays.

• Project Website: Information related to the Point Beach second license renewal can be accessed on the NRC's Point Beach website at https://www.nrc.gov/reactors/operating/licensing/renewal/applications/point-beach-subsequent.html. Under the section titled “Public Involvement,” click on the date of the “Draft Report.”

• Public Library: A copy of draft plant-specific Supplement 23, Second Renewal, to the GEIS for License Renewal of Nuclear Plants, NUREG-1437, is available at the following location (library access and hours are determined by local policy):

○ Lester Public Library, 1001 Adams Street, Two Rivers, WI 54241.

B. Submitting Comments

The NRC encourages electronic comment submission through the Federal Rulemaking website (https://www.regulations.gov). Please include Docket ID NRC-2020-0277 in your comment submission.

The NRC cautions you not to include identifying or contact information in comment submissions that you do not want to be publicly disclosed. The NRC will post all comment submissions at https://www.regulations.gov as well as enter the comment submissions into ADAMS. The NRC does not routinely edit comment submissions to remove identifying or contact information.

If you are requesting or aggregating comments from other persons for submission to the NRC, you should inform those persons not to include identifying or contact information that they do not want to be publicly disclosed in their comment submission. Your request should state that the NRC does not routinely edit comment submissions to remove such information before making the comment submissions available to the public or entering the comment into ADAMS.

II. Meeting Information

On November 9, 2021, the NRC published in the Federal Register (86 FR 62220) a notice of availability of the draft plant-specific Supplement 23, Second Renewal, to the GEIS for License Renewal of Nuclear Plants, NUREG-1437, regarding the proposed subsequent renewal of Point Beach and requested public comments on this document. The NRC is announcing that the NRC staff will hold two public webinars. The webinars will include a telephone line for members of the public to provide comments. A court reporter will transcribe all comments received during the webinars. To be considered, comments must be provided either at the transcribed public meeting or in writing, as discussed in the ADDRESSES section of this notice. The public webinars will be held on December 8, 2021, from 1:00 p.m. to 3:00 p.m. CT and from 5:00 p.m. to 7:00 p.m. CT. Persons interested in attending these webinars should monitor the NRC's Public Meeting Schedule website at https://www.nrc.gov/pmns/mtg for additional information, agenda for the meetings, and access information for the webinars. Please contact Ms. Phyllis Clark no later than December 6, 2021, if accommodations or special equipment is needed to attend or to provide comments, so that the NRC staff can determine whether the request can be accommodated.

Dated: November 29, 2021.
For the Nuclear Regulatory Commission.
Robert B. Elliott,
Chief, Environmental Review License Renewal Branch, Division of Rulemaking, Environmental, and Financial Support, Office of Nuclear Material Safety, and Safeguards.

[FR Doc. 2021-26230 Filed 12-2-21; 8:45 am]

BILLING CODE 7590-01-P